DEPARTMENT OF HOUSING AND URBAN DEVELOPMENT

[Docket No. FR-5681-N-50]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Air Force: Ms. Connie Lotfi, Air Force Real Property Agency, 2261 Hughes Avenue, Suite 156, Lackland AFB, TX, 78236-9852, (210) 395-9512; Army: Ms. Veronica Rines, Office of the Assistant Chief of Staff for Installation Management, Department of Army, Room 5A128, 600 Army Pentagon, Washington, DC 20310, (571) 256-8145; Coast Guard: Commandant, United States Coast Guard, Attn: Jennifer Stomber, 2100 Second St., SW., Stop 7901, Washington, DC 20593-0001; (202) 475-5609; Energy: Mr. David Steinau, Department of Energy, Real Estate Division (MA-651), Office of Property Management, 1000 Independence Ave., SW., Washington, DC, 20585, (202) 287-1503; GSA: Mr. Flavio Peres, General Services Administration, Office of Real Property Utilization and Disposal, 1800 F Street NW., Room 7040 Washington, DC 20405, (202) 501-0084; Interior: Mr. Michael Wright, Acquisition & Property Management, Department of the Interior, MS-4262, 1849 C Street, Washington, DC, 20240, (202) 513-0795 Navy: Mr. Steve Matteo, Department of the Navy, Asset Management Division, Naval Facilities Engineering Command, Washington Navy Yard, 1330 Patterson Ave., SW., Suite 1000, Washington, DC 20374; (202) 685-9426 (There are not toll-free numbers).

Dated: December 19, 2013.
Mark Johnston,
Deputy Assistant Secretary for Special Needs.

TITLE V, FEDERAL SURPLUS PROPERTY PROGRAM, FEDERAL REGISTER REPORT FOR 12/27/2013

Suitable/Available Properties

Building

Arizona

Old Ehrenberg Office

49354 Ehrenberg-Poston Hwy.

Ehrenberg AZ

Landholding Agency: Interior

Property Number: 61201340009

Status: Unutilized

Comments: Off-site removal only; no future agency need; 800 sq. ft.; office; significant water damage; repairs a must; asbestos/lead; contact Interior for more info.

California

Los Banos Field Office

745 West J Street

Los Banos CA 93635

Landholding Agency: GSA

Property Number: 54201340006

Status: Surplus

GSA Number: 9-I-CA-0450-AC-3

Directions: (Landholding-Agric.; Disposal & GSA) 2 Bldgs. 5, 375 sq.; bldgs. sits on 0.41 acres

Comments: Significant fire damage to Admin. bldg.; bathroom; major repairs required; contamination; asbestos; contact GSA for more info.

Siphon Drop Caretaker's Reside

(RPUI #00350000600B)

Yuma Main Canal

Winterhaven CA

Landholding Agency: Interior

Property Number: 61201340010

Status: Unutilized

Comments: Off-site removal only; no future agency USE; 1,014 sq. ft.; 108+ months vacant; extensive termite damage; asbestos; mold, lead; escort required; contact Interior for more info.

Illinois

Site 50, Building A

Fermi National Accelerator Laboratory

Batavia IL 60510

Landholding Agency: Energy

Property Number: 41201340002

Status: Excess

Comments: Off-site removal only; 367 sq. ft.; storage; 108 years old; secured area; contact Energy for more information.

37 Shabbona Material Dev. Lab

Fermi National Accelerator Lab

Batavia IL 60510

Landholding Agency: Energy

Property Number: 41201340003

Status: Excess

Comments: Off-site removal only; 1,097 sq. ft.; office; 44 yrs.-old; secured area; contact Energy for more info.

37a Shabbona-Component Storage

Fermi National Accelerator Laboratory

Batavia IL 60510

Landholding Agency: Energy

Property Number: 41201340004

Status: Excess

Comments: Off-site removal only; 2,079 sq. ft.; storage; 44 years old; secured area; contact Energy for more information.

Site 50 Barn

Fermi National Accelerator Lab

Fermilab IL 60510

Landholding Agency: Energy

Property Number: 41201340005

Status: Excess

Comments: Off-site removal only; 2,952 sq. ft.; storage; 108 yrs.-old; secured area; contact Energy for more info.

33 Blackhark—Lab 8 House

Fermi National Accelerator Laboratory

Batavia IL 60510

Landholding Agency: Energy

Property Number: 41201340006

Status: Excess

Comments: Off-site removal only; 1,092 sq. ft.; office; 50 years old; secured area; contact Energy for more information.

31 Blackhawk—Lab 8 House

Fermi National Accelerator Laboratory

Batavia IL 60510

Landholding Agency: Energy

Property Number: 41201340009

Status: Excess

Comments: Off-site removal only; 1,092 sq. ft.; office; 50 years old; secured area; contact Energy for more information.

Mississippi

Modular #2; 640400B028; RPUID

13762 Small Fruits Research Station

Poplarville MS 39470

Landholding Agency: Agriculture

Property Number: 15201340003

Status: Unutilized

Comments: 1,440 sq. ft.; lab; 12+ months vacant; fair conditions; contact Agriculture for more info.

Modular #1; 640400B027; RPUID: 03.804

13762 Small Fruits Research Station

Poplarville MS 39470

Landholding Agency: Agriculture

Property Number: 15201340005

Status: Unutilized

Comments: 1,440 sq. ft.; 12+ months vacant; fair conditions; contact Agriculture for more information.

Lab/Support 2; 640400B002;

RPUID 03.54463

13762 Small Fruits Research Station

Poplarville MS 39470

Landholding Agency: Agriculture

Property Number: 15201340006

Status: Unutilized

Comments: 1,215 sq. ft.; Lab: 12+ months vacant; fair condition; need new roof; mold present; contact Agriculture for more information.

Office/Lab 1; 640400B001;

RPUD 03.54462

13762 Small Fruits Research Station

Poplarville MS 39470

Landholding Agency: Agriculture

Property Number: 15201340007

Status: Unutilized

Comments: 2,800 sq. ft.; 12+ months vacant; fair conditions; need new roof; mold present; contact Agriculture for more information.

New York

Former TSG Harold Lockwood US

Army Reserves Center

111 Finney Boulevard

Malone NY 12953

Landholding Agency: GSA

Property Number: 54201340007

Status: Excess

GSA Number: 1-D-NY-0966-AA

Comments: 29960 Sq. Ft.: office/administrative/garage; sits on 4.82+/-acres; age 1961-1983; entry by appointment with USAR/GSA; asbestos and lead based paint; contact GSA for more information.

Tennessee

Building 2250

Indiana Ave; Ft. Campbell

Ft. Campbell TN 42223

Landholding Agency: Army

Property Number: 21201340001

Status: Unutilized

Directions: originally published under 21200330094 as ‘unsuitable’

Comments: 2,500 sq. ft.; office; 36+ months vacant; poor conditions; need repairs; secured area; strict accessibility requirements; contact Army for more info.

Texas

#1658 Training Lodge Support

Building

219 K Avenue

Sheppard AFB TX 76311

Landholding Agency: Air Force

Property Number: 18201340042

Status: Underutilized

Comments: 11,743 sq. ft.; 5+months vacant; 60+years old; secured area; escort required to access property; contact Air Force for more information.

#1919 Technical Training

Support

921 Missile Road

Sheppard AFB TX 76311

Landholding Agency: Air Force

Property Number: 18201340043

Status: Unutilized

Comments: 10,493 sq. ft.; 7+months vacant; 52+years old; secured area; escort required to access property; contact Air Force for more information.

#1023 Compressed Air Plant

Building

507 10th Street

Sheppard AFB TX 76311

Landholding Agency: Air Force

Property Number: 18201340044

Status: Underutilized

Comments: 572 sq. ft.; storage; 52+ years old secured area; escort required to access property; contact Air Force for more information.

#2017 Petroleum Operations

Building

1402 K Avenue

Sheppard AFB TX 76311

Landholding Agency: Air Force

Property Number: 18201340045

Status: Underutilized

Comments: 1,811 sq. ft.; storage; 47 years old; secured area; escort required to gain access to property; contact Air Force for more information.

#1641 Be Maint Shop

Sheppard AFB

Sheppard TX 76311

Landholding Agency: Air Force

Property Number: 18201340046

Status: Underutilized

Comments: 1,546 sq. ft., storage; 40+yrs.-old; secured area; escort required to access property; contact AF for more info.

Utah

Building 11; Hill AFB

5923 C Ave.

Layton UT 84056

Landholding Agency: Air Force

Property Number: 18201340047

Status: Excess

Comments: off-site removal only; 18,898 sq. ft.; office/maint. shop; 72+ yrs.-old; deteriorated; asbestos; secured area; contact Air Force for more info.

LAND

Alabama

(Former) Huntsville

International Airport (HSV) Outer Market

1390 Browns Ferry Road

Madison AL 35758

Landholding Agency: GSA

Property Number: 54201340008

Status: Excess

GSA Number: 4-U-AL-0787AA

Comments: 0.6 acres; outer marker; property can be accessed from Browns Ferry Road; contact GSA for more information.

Suitable/Unavailable Properties

Building

Oregon

Crescent Lehman Building, FS

Crescent Admin Site

Crescent OR

Landholding Agency: Agriculture

Property Number: 15201330017

Status: Excess

Comments: 518 sf. Conference room 81 yrs.-old; poor conditions; existing federal need Crescent Storage (Pumphouse)

Crescent Admin. Site

Crescent OR

Landholding Agency: Agriculture

Property Number: 15201330026

Status: Excess

Comments: 323 sf.; 46 yrs.-old; good condition; existing Federal need.

Unsuitable Properties

Building

Florida

MWR Rental Accommodation

Naval Air Station

Key West FL 33040

Landholding Agency: Navy

Property Number: 77201340011

Status: Unutilized

Comments: Public access denied and no alternative method to gain access without compromising national security.

Reasons: Secured Area

RV Park Office

Naval Air Station

Key West FL 33040

Landholding Agency: Navy

Property Number: 77201340012

Status: Unutilized

Comments: Public access denied & no alternative method to gain access w/out compromising national security.

Reasons: Secured Area

Illinois

39 Shabbona-Material Dev. Lab

Fermi National Accelerator Lab

Batavia IL 60510

Landholding Agency: Energy

Property Number: 41201340008

Status: Excess

Comments: Public access denied & no alternative method to gain access w/out compromising national security

Reasons: Secured Area

North Carolina

Building 21452

Ft. Bragg

Ft. Bragg NC 28310

Landholding Agency: Army

Property Number: 21201340039

Status: Underutilized

Comments: Public access denied and no alternative method to gain access without compromising national security.

Reasons: Secured Area

Wisconsin

Coast Guard Cutter Mobile Bay

26 Neenah Avenue

Sturgeon Bay WI

Landholding Agency: Coast Guard

Property Number: 88201340005

Status: Excess

Comments: Active military facility; public access denied & no alternative method to gain access w/out compromising national security

Reasons: Secured Area

[FR Doc. 2013-30637 Filed 12-23-13; 8:45 am]

BILLING CODE 4210-67-P